NUCLEAR REGULATORY COMMISSION

[Docket Nos. 50-250 and 50-251; NRC-2022-0172]

Notice of Intent To Conduct Scoping Process and Prepare Environmental Impact Statement Florida Power & Light Company Turkey Point Nuclear Generating Unit Nos. 3 and 4

AGENCY: Nuclear Regulatory Commission.

ACTION: Subsequent license renewal application supplement; intent to conduct scoping process and prepare environmental impact statement; and request for comment.

SUMMARY: The U.S. Nuclear Regulatory Commission (NRC) has received Environmental Report, Supplement 2, from Florida Power & Light Company (FPL, the applicant), dated June 9, 2022, related to FPL's application for subsequent license renewal (SLR) of Renewed Facility Operating License Nos. DPR-31 and DPR-41 for Turkey Point Nuclear Generating Unit Nos. 3 and 4 (Turkey Point). The NRC staff has determined that the Environmental Report, Supplement 2, is acceptable for docketing, and that the staff will prepare a supplement to its final supplemental environmental impact statement (FSEIS) for Turkey Point subsequent license renewal, i.e., NUREG-1437, Supplement 5, Second Renewal, “Generic Environmental Impact Statement for License Renewal of Nuclear Plants, Supplement 5, Second Renewal, Regarding Subsequent License Renewal for Turkey Point Nuclear Generating Unit Nos. 3 and 4, Final Report” (October 2019). The subsequent renewed operating licenses would authorize the applicant to operate Turkey Point for an additional 20 years beyond the period specified in each of the current licenses. The current operating licenses for Turkey Point Unit Nos. 3 and 4 expire on July 19, 2032, and April 10, 2033, respectively. The NRC will conduct a limited scoping process to gather information necessary to prepare a supplement to its environmental impact statement (EIS) to evaluate the environmental impacts of SLR of the operating licenses for Turkey Point. The NRC is seeking public comment on the proper scope of the EIS supplement to be prepared for this action.

DATES: Submit comments by November 7, 2022. Comments received after this date will be considered if it is practical to do so, but the NRC is able to ensure consideration only for comments received on or before this date.

ADDRESSES: You may submit comments by any of the following methods; however, the NRC encourages electronic comment submission through the Federal rulemaking website (https://www.regulations.gov).

• Federal rulemaking website: Go to https://www.regulations.gov and search for Docket ID NRC-2022-0172. Address questions about Docket IDs in Regulations.gov to Stacy Schumann; telephone: 301-287-0624; email: Stacy.Schumann@nrc.gov. For technical questions, contact the individual listed in the For Further Information Contact section of this document.

• Email: Comments may be submitted to the NRC electronically using the email address TurkeyPoint34Environmental@nrc.gov.

• Mail comments to: Office of Administration, Mail Stop: TWFN-7-A60M, U.S. Nuclear Regulatory Commission, Washington, DC 20555-0001, ATTN: Program Management, Announcements and Editing Staff.

For additional direction on obtaining information, see “Obtaining Information” in the SUPPLEMENTARY INFORMATION section of this document.

FOR FURTHER INFORMATION CONTACT: Lance Rakovan, Office of Nuclear Material Safety and Safeguards, U.S. Nuclear Regulatory Commission, Washington, DC 20555-0001; telephone: 301-415-2589; email: Lance.Rakovan@nrc.gov.

SUPPLEMENTARY INFORMATION:

I. Obtaining Information and Submitting Comments

A. Obtaining Information

Please refer to Docket ID NRC-2022-0172 when contacting the NRC about the availability of information for this action. You may obtain publicly available information related to this action using any of the following methods:

• Federal Rulemaking Website: Go to https://www.regulations.gov and search for Docket ID NRC-2022-0172.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

• Public Library: A copy of the subsequent license renewal report supplement for Turkey Point, is available for public review at the Naranja Branch Library, 14850 SW 280 Street, Homestead, Florida 33032.

B. Submitting Comments

The NRC encourages electronic comment submission through the Federal rulemaking website (https://www.regulations.gov). Please include Docket ID NRC-2022-0172 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

By letters dated January 30, 2018; February 9, 2018, February 16, 2018, March 1, 2018, and April 10, 2018, the NRC received an application from FPL, filed pursuant to Section 103 of the Atomic Energy Act of 1954, as amended (the Act), and Part 54 of title 10 of the Code of Federal Regulations (10 CFR), “Requirements for Renewal of Operating Licenses for Nuclear Power Plants,” to renew the operating licenses for Turkey Point at 2,644 megawatt thermal each. The Turkey Point nuclear units are located in Miami-Dade County, east of Florida City, Florida. Each unit consists of a Westinghouse pressurized-water reactor nuclear steam supply system. A notice of receipt of the subsequent license renewal application (SLRA) was published in the Federal Register on April 18, 2018 (83 FR 17196). A notice of acceptance for docketing of the supplemented application and opportunity for hearing regarding subsequent license renewal of the facility operating licenses was published in the Federal Register on May 2, 2018 (83 FR 19304).

On December 10, 2019 (84 FR 67482), notice was given that the NRC had issued Subsequent Renewed Facility Operating License Nos. DPR-31 and DPR-41 to FPL. Subsequent Renewed Facility Operating License No. DPR-31 authorized operation of Turkey Point Unit 3 through July 19, 2052, at reactor core power levels not in excess of 2,644 megawatts thermal, in accordance with the provisions of the Turkey Point Unit 3 operating license and technical specifications. Subsequent Renewed Facility Operating License No. DPR-41 authorized operation of Turkey Point Unit 4 through April 10, 2053, at reactor core power levels not in excess of 2,644 megawatts thermal, in accordance with the provisions of the Turkey Point Unit 4 operating license and technical specifications. The NRC's Record of Decision (ROD), which supported the NRC's decision to issue Subsequent Renewed Facility Operating License Nos. DPR-31 and DPR-41, is available in the following “Availability of the Documents” table.

As discussed in the ROD and the FSEIS for Turkey Point SLR, the NRC staff considered the reasonably foreseeable impacts of subsequent license renewal for Turkey Point Units 3 and 4, as well as a range of reasonable alternatives. In the FSEIS, the NRC staff (a) relied upon the NRC's “Generic Environmental Impact Statement for License Renewal of Nuclear Plants,” NUREG-1437 (June 2013) (the GEIS) and 10 CFR part 51, subpart A, Appendix B, Table B-1, to evaluate the environmental impacts of generic (“Category 1”) issues, and (b) evaluated the environmental impacts of site-specific (“Category 2”) issues. The FSEIS documents the staff's environmental review, including the determination that the adverse environmental impacts of subsequent license renewal for Turkey Point are not so great that preserving the option of subsequent license renewal for energy-planning decisionmakers would be unreasonable.

In the Commission's Memorandum and Order, CLI-22-02, dated February 24, 2022, the Commission reversed its previous decision that, when considering the environmental impacts of subsequent license renewal, the NRC staff may rely on the 2013 GEIS and 10 CFR part 51, subpart A, Appendix B, Table B-1, to evaluate the environmental impacts of generic “Category 1” issues. Specifically, the Commission held that 10 CFR 51.53(c)(3) only applies to an initial license renewal applicant's preparation of an environmental report and that the 2013 GEIS did not address subsequent license renewal. As a result, the Commission determined, among other things, that the NRC staff's environmental review of the subsequent license renewal application for Turkey Point Units 3 and 4 was incomplete. In a further Order (CLI-22-06) issued on June 3, 2022, the Commission reaffirmed its determination that the subsequently renewed operating licenses for Turkey Point Unit Nos. 3 and 4 be revised to expire on July 19, 2032, and April 10, 2033, respectively.

Following the issuance of CLI-22-02, the NRC received an Environmental Report, Supplement 2, from FPL, dated June 9, 2022, and noticed in the Federal Register on July 26, 2022 (87 FR 44430), related to the subsequent renewal of the operating licenses for Turkey Point. By letter dated September 28, 2022, the NRC staff determined that FPL had submitted sufficient information in accordance with 10 CFR 54.19, 54.21, 54.22, 54.23, 51.45, and 51.53(c), to enable the staff to undertake a review of the environmental report supplement (the supplement), and that the supplement is, therefore, acceptable for docketing. The current Docket Nos. 50-250 and 50-251 for Renewed Facility Operating License Nos. DPR-31 and DPR-41, respectively, will be retained. The determination to accept the supplement for docketing does not constitute a determination that a subsequent renewed operating license should be issued and does not preclude the NRC staff from requesting additional information as the review proceeds.

Given recent circumstances requiring the preparation of a supplement to the previous FSEIS for subsequent license renewal for Turkey Point Unit Nos. 3 and 4, the NRC staff will conduct a limited scoping process associated with this action. Consistent with Commission direction, the NRC staff intends to prepare a draft supplement to the Turkey Point FSEIS for public comment, in which it will review all applicable “Category 1” (generic) issues listed in the FSEIS at Table 4-1, for the purpose of making site-specific findings (e.g., SMALL, MODERATE, LARGE) on those issues. The NRC staff also intends to review “Category 2” (site-specific) issues listed in the FSEIS at Table 4-2 for any significant new information that may have arisen following the issuance of the FSEIS (i.e., October 2019) and will update the site-specific analyses, as appropriate. Environmental scoping comments should address matters that fit within these two categories; comments that do not fit into these two categories will not be considered.

III. Request for Comment

This notice informs the public of the NRC's intention to prepare an FSEIS supplement related to the subsequent license renewal application and to provide the public an opportunity to participate in the environmental scoping process, as defined in 10 CFR part 51, “Environmental Protection Regulations for Domestic Licensing and Related Regulatory Functions.”

Participation in the scoping process by members of the public and local, State, Tribal, and Federal government agencies is encouraged. The scoping process for the supplement to the FSEIS will be used to accomplish the following:

a. Define the proposed action, which is to be the subject of the supplement to the FSEIS, to the extent not addressed in the FSEIS;

b. Determine the scope of the supplement to the FSEIS and identify the significant issues to be analyzed in depth;

c. Identify and eliminate from detailed study those issues that are peripheral or are not significant; or were covered by a prior environmental review;

d. Identify any environmental assessments and other EISs that are being or will be prepared that are related to, but are not part of, the scope of the supplement to the FSEIS being considered;

e. Identify other environmental review and consultation requirements related to the proposed action;

f. Indicate the relationship between the timing of the preparation of the environmental analyses and the Commission's tentative planning and decisionmaking schedule;

g. Identify any cooperating agencies and, as appropriate, allocate assignments for preparation and schedules for completing the supplement to the FSEIS to the NRC and any cooperating agencies; and

h. Describe how the supplement to the FSEIS will be prepared, including any contractor assistance to be used.

The NRC invites the following entities to participate in scoping:

a. The applicant, Florida Power & Light Company;

b. Any Federal agency that has jurisdiction by law or special expertise with respect to any environmental impact involved or that is authorized to develop and enforce relevant environmental standards;

c. Affected State and local government agencies, including those authorized to develop and enforce relevant environmental standards;

d. Any affected Indian Tribe;

e. Any person who requests or has requested an opportunity to participate in the scoping process; and

f. Any person who has petitioned or intends to petition for leave to intervene.

Participation in the scoping process for the Turkey Point subsequent license renewal supplement to the FSEIS does not entitle participants to become parties to the proceeding to which the supplement to the FSEIS relates. Matters related to participation in any hearing are outside the scope of matters to be discussed.

IV. Availability of Documents

The documents identified in the following table are available to interested persons through one or more of the following methods, as indicated.

Document description | Adams Accession No.
Subsequent License Renewal Application—Appendix E Environmental Report Supplement 2, dated June 9, 2022 | ML22160A301.
“Generic Environmental Impact Statement for License Renewal of Nuclear Plants, Supplement 5, Second Renewal, Regarding Subsequent License Renewal for Turkey Point Nuclear Generating Unit Nos. 3 and 4, Final Report,” dated October 2019 | ML19290H346.
Turkey Point subsequent license renewal application and initial supplements | ML18037A812 (Package), ML18044A653, ML18053A137, ML18078A027, ML18072A230, ML18072A232, ML18102A521, ML18113A134, ML18113A141, ML18113A142, ML18113A145, ML18113A146, and ML18113A148.
NRC's Record of Decision pertaining to Subsequent Renewed Facility Operating License Nos. DPR-31 and DPR-41, dated December 4, 2019 | ML19309F859.
Commission Memorandum and Order CLI-22-02, dated February 24, 2022 | ML22055A496.
Commission Memorandum and Order CLI-22-06, dated June 3, 2022 | ML22154A215.
Letter to William D. Maher, Licensing Director, Nuclear Licensing Projects, FPL—Turkey Point Units 3 and 4 Subsequent License Renewal Application Supplement Environmental Review, dated September 28, 2022 | ML22268A003.

Dated: October 4, 2022.
For the Nuclear Regulatory Commission.
John M. Moses,
Deputy Director, Division of Rulemaking, Environmental, and Financial Support, Office of Nuclear Materials, Safety and Safeguards.

[FR Doc. 2022-21919 Filed 10-6-22; 8:45 am]

BILLING CODE 7590-01-P